DEPARTMENT OF THE INTERIOR

Fish and Wildlife Service

Issuance of Permit for Incidental Take of Threatened Species Associated With a Habitat Conservation Plan for the Stimson Lumber Company, Montana

AGENCY: Fish and Wildlife Service, Interior.

ACTION: Notice of issuance of permit.

SUMMARY: On October 24, 2000, the U.S. Fish and Wildlife Service (Service), issued an incidental take permit associated with a habitat conservation plan to Plum Creek Timber Company (Permit Number TE-034609-0) for the incidental take of threatened and endangered species pursuant to section 10(a)(1)(B) of the Endangered Species Act of 1973, as amended (Act). Stimson Lumber Company is in the process of purchasing approximately 11,487 hectares (28,385 acres) of Plum Creek land in Montana covered by the above Incidental Take Permit for the Plum Creek Native Fish Habitat Conservation Plan (NFHCP). Stimson Lumber Company expressed the desire to continue implementing pertinent provisions of the NFHCP on these lands and to continue to be covered by an Incidental Take Permit. Partial transfer of an Incidental Take Permit is expressly authorized at 50 CFR 13.25

On March 17, 2003, along with the Service and Plum Creek, Stimson Lumber Company entered into an Assignment and Assumption Agreement (partial assignment only, in connection with the sale of the above-mentioned lands) to facilitate the transfer of all relevant obligations of the NFHCP, Implementing Agreement and the permit from Plum Creek to Stimson pursuant to 50 CFR 13.25. On March 21, 2003, Stimson Lumber Company submitted to the Service an application for an Incidental Take Permit, along with the Assignment and Assumption Agreement and a Letter of Agreement to fulfill the requirements of processing the partial transfer of the NFHCP to Stimson Lumber Company and to initiate discussions with the Service concerning an amendment of the NFHCP to include the grizzly bears and implement interim grizzly bear best management practices.

Notice is hereby given that on April 24, 2003, as authorized by the provisions of the Act, the Service issued an Incidental Take Permit (TE-070004) to Stimson Lumber Company subject to certain conditions set forth therein. The permit was granted only after the Service determined that it was applied for in good faith, that granting the permit would not be to the disadvantage of the threatened species, and that it will be consistent with the purposes and policies set forth in the Act, as amended.

Additional information on this partial transfer and permit issuance may be requested by contacting the Regional Habitat Conservation Planning Coordinator, 134 Union Boulevard, Suite 645, Lakewood, Colorado 80228, telephone (303) 236-7400, extension 280.

Dated: April 24, 2003.
Ralph O. Morgenweck,
Regional Director, Denver, Colorado.

[FR Doc. 03-12400 Filed 5-16-03; 8:45 am]

BILLING CODE 4310-55-P